DEPARTMENT OF ENERGY

DOE/NSF High Energy Physics Advisory Panel: Correction

AGENCY: Office of Science, Department of Energy.

ACTION: Notice of open meeting: Correction.

SUMMARY: On February 14, 2013, the Department of Energy (DOE) published a notice of open meeting for the DOE/NSF High Energy Physics Advisory Panel to be held on March 11-12, 2013. This document makes a correction to that notice.

FOR FURTHER INFORMATION CONTACT: John Kogut, Executive Secretary; High Energy Physics Advisory Panel; U.S. Department of Energy; SC-25; Germantown Building, 1000 Independence Avenue SW., Washington, DC 20585-1290; Telephone: 301-903-1298.

Corrections

In the Federal Register of February 21, 2013, in FR Doc. 2013-04064, on page 12043, please make the following correction:

Under DATES, page 12043, third column, first paragraph, first line, the time has changed. The new time is 9:00 a.m.-6:00 p.m.

Issued in Washington, DC, on February 26, 2013.
LaTanya R. Butler,
Deputy Committee Management Officer.

[FR Doc. 2013-04876 Filed 3-1-13; 8:45 am]

BILLING CODE 6450-01-P